ENVIRONMENTAL PROTECTION AGENCY

40 CFR Part 300

[EPA-HQ-SFUND-1989-0011; FRL-9983-87—Region 1]

National Oil and Hazardous Substances Pollution Contingency Plan; National Priorities List: Deletion of the Union Chemical Co., Inc. Superfund Site

AGENCY: Environmental Protection Agency.

ACTION: Final rule.

SUMMARY: The Environmental Protection Agency (EPA) Region 1 announces the deletion of the Union Chemical Co., Inc. Superfund Site (Site) located in South Hope, Maine, from the National Priorities List (NPL). The NPL, promulgated pursuant to section 105 of the Comprehensive Environmental Response, Compensation, and Liability Act (CERCLA) of 1980, as amended, is an appendix of the National Oil and Hazardous Substances Pollution Contingency Plan (NCP). The EPA and the State of Maine, through the Department of Environmental Protection (MEDEP), have determined that all appropriate response actions under CERCLA, other than operation and maintenance, monitoring, and five-year reviews, have been completed. However, this deletion does not preclude future actions under Superfund.

DATES: This action is effective September 21, 2018.

ADDRESSES: Docket: EPA has established a docket for this action under Docket Identification No. EPA-HQ-SFUND-1989-0011. All documents in the docket are listed on the http://www.regulations.gov website. Although listed in the index, some information is not publicly available, i.e., Confidential Business Information or other information whose disclosure is restricted by statute. Certain other material, such as copyrighted material, is not placed on the internet and will be publicly available only in hard copy form. Publicly available docket materials are available either electronically through http://www.regulations.gov or in hard copy at the site information repository. Location, contacts, phone numbers and viewing hours for the site information repository are:

U.S. EPA Region 1, Superfund Records Center, 5 Post Office Square, Suite 100, Boston, MA 02109; Phone: (617) 918-1440; Monday-Friday: 9:00 a.m.-5:00 p.m., Saturday and Sunday: Closed.

FOR FURTHER INFORMATION CONTACT: Terrence Connelly, Remedial Project Manager, U.S. Environmental Protection Agency, Region 1, Mailcode OSRR07-1, 5 Post Office Square, Boston, MA 02109; (617) 918-1373; email: connelly.terry@epa.gov.

SUPPLEMENTARY INFORMATION: The site to be deleted from the NPL is: Union Chemical Co., Inc. Superfund Site, South Hope, Maine. A Notice of Intent to Delete for this Site was published in the Federal Register (83 FR 34508) on July 20, 2018.

The closing date for comments on the Notice of Intent to Delete was August 20, 2018. Two public comments were received. One commenter argued against deletion because they believe that groundwater contamination is being left behind inappropriately under EPA's 2013 technical impracticability determination and proposed Site deletion, and that the implementation of the Declaration of Environmental Covenant (deed restriction) on the Site properties was done without public oversight. The second commenter voiced the belief that the deletion was a political decision ultimately directed from the White House.

In response, EPA notes that the chain of events leading to the proposed deletion began several years ago, when after multiple remedial attempts from 1996 to 2005, EPA determined in 2013 that it was technically impracticable to restore groundwater at the Site to drinking water quality. In a 2013 Record of Decision Amendment (ROD Amendment), EPA waived the requirement to meet groundwater cleanup standards due to technical impracticability because (1) the original groundwater pump-and-treat remedy had reached the limits of its effectiveness, (2) three additional innovative in situ technologies had proven unsuccessful in attaining the groundwater cleanup standards, and (3) a technical evaluation of cleanup alternatives indicated that no technology was available for achieving groundwater cleanup standards in a reasonable timeframe (in this case, under 300 years) due to Site-specific hydrogeological and contaminant conditions. The 2013 ROD Amendment also adjusted the institutional control requirements of the remedy selected in the 1990 Record of Decision (ROD) with more specifics on the land use controls to be included in the deed restriction for the Site properties. Before the ROD Amendment was finalized, EPA presented about the revised site remedy in several meetings to the Town of Hope community. EPA received concurrence from the State and only positive comments from the public on the ROD Amendment. Consistent with the requirements of the ROD and ROD Amendment, MEDEP, working with the Maine Attorney General's Office and EPA, drafted and recorded the Declaration of Environmental Covenants. Upon the recording of the deed restriction, the Site became eligible for deletion, leading EPA to issue the Notice of Intent to Delete the Site.

A responsiveness summary was prepared and placed in the docket, EPA-HQ-SFUND-1989-0011, on www.regulations.gov, and in the Superfund Records Center listed above.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous substances, Hazardous waste, Intergovernmental relations, Penalties, Reporting and recordkeeping requirements, Superfund, Water pollution control, Water supply.

Dated: September 6, 2018.
Alexandra Dunn,
Regional Administrator, Region 1.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—[Amended]

2. Table 1 of appendix B to part 300 is amended by removing the listing under Maine for “Union Chemical Co., Inc”.

[FR Doc. 2018-20532 Filed 9-20-18; 8:45 am]

BILLING CODE 6560-50-P